DEPARTMENT OF COMMERCE

International Trade Administration

[A-201-842]

Large Residential Washers From Mexico: Partial Rescission of Antidumping Duty Administrative Review; 2014-2015

AGENCY: Enforcement and Compliance, International Trade Administration, Department of Commerce.

SUMMARY: The Department of Commerce (the Department) is partially rescinding its administrative review of the antidumping duty order on large residential washers (LRW) from Mexico for the period of review February 1, 2014, through January 31, 2015 (POR).

DATES: Effective date: October 14, 2015.

FOR FURTHER INFORMATION CONTACT: Brian Smith or Brandon Custard, Enforcement and Compliance, International Trade Administration, U.S. Department of Commerce, 14th Street and Constitution Avenue NW., Washington, DC 20230; telephone: (202) 482-1766 or (202) 482-1832, respectively.

SUPPLEMENTARY INFORMATION:

Background

On February 2, 2015, the Department published in the Federal Register a notice of “Opportunity to Request Administrative Review” of the antidumping duty order on LRW from Mexico for the POR.¹

¹ See Antidumping or Countervailing Duty Order, Finding, or Suspended Investigation; Opportunity to Request Administrative Review, 80 FR 5509 (February 2, 2015).

On February 20, 2015, in accordance with section 751(a) of the Tariff Act of 1930, as amended (the Act), and 19 CFR 351.213(b), Electrolux Home Products Corp., N.V. and Electrolux Home Products de Mexico, S.A. de C.V. (collectively, Electrolux) requested a review of Electrolux's sales during the POR.²

² See February 20, 2015, letter from Electrolux regarding request for administrative review.

On February 26, 2015, Whirlpool Corporation, the petitioner, requested that the Department conduct an administrative review of the sales of Samsung Electronics Mexico S.A. de C.V (Samsung) and Electrolux during the POR.³ The Department did not receive a request from Samsung.

³ See February 26, 2015, letter from the petitioner regarding request for administrative review.

On April 3, 2015, the Department published in the Federal Register a notice of initiation of an administrative review of the antidumping duty order on LRW from Mexico with respect to the above-named companies.⁴

⁴ See Initiation of Antidumping and Countervailing Duty Administrative Reviews, 80 FR 18202 (April 3, 2015).

On May 29, 2015, the petitioner timely withdrew its request for a review of Samsung.⁵

⁵ See May 29, 2015, letter from the petitioner regarding withdrawal of request for review.

Partial Rescission of Review

Pursuant to 19 CFR 351.213(d)(1), the Department will rescind an administrative review, in whole or in part, if the parties that requested a review withdraw the request within 90 days of the date of publication of notice of initiation of the requested review. The petitioner's withdrawal request was filed before the 90-day deadline and Samsung did not request a review of its sales during the POR. Therefore, in response to the petitioner's withdrawal of request for review of Samsung, and pursuant to 19 CFR 351.213(d)(1), we are rescinding this review with respect to Samsung. The instant review will continue with respect to Electrolux.

Assessment

The Department will instruct U.S. Customs and Border Protection (CBP) to assess antidumping duties on all appropriate entries. For Samsung, the company for which this review is rescinded, antidumping duties shall be assessed at rates equal to the cash deposit of estimated antidumping duties required at the time of entry, or withdrawal from warehouse, for consumption, in accordance with 19 CFR 351.212(c)(1)(i). The Department intends to issue appropriate assessment instructions directly to CBP 41 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: October 7, 2015.
Christian Marsh,
Deputy Assistant Secretary for Antidumping and Countervailing Duty Operations.

[FR Doc. 2015-26137 Filed 10-13-15; 8:45 am]

BILLING CODE 3510-DS-P